DEPARTMENT OF TRANSPORTATION

Saint Lawrence Seaway Development Corporation Advisory Board

Notice of Meeting

Pursuant to Section 10(a)(2) of the Federal Advisory Committee Act (Pub. L. 92-463; 5 U.S.C. App. I) notice is hereby given of a meeting of the Advisory Board of the Saint Lawrence Seaway Development Corporation (SLSDC), to be held at 12:00 noon on Saturday, September 30, 2000, in the conference room of the Corporation's Administration Building, 180 Andrews Street, Massena, NY. The agenda for this meeting will be as follows: Opening Remarks; Consideration of Minutes of Past Meeting; Review of Programs; New Business; and Closing Remarks.

Attendance at meeting is open to the interested public but limited to the space available. With the approval of the Administrator, members of the public may present oral statements at the meeting. Persons wishing further information should contact not later than September 22, 2000, Marc C. Owen, Advisory Board Liaison, Saint Lawrence Seaway Development Corporation, 400 Seventh Street, SW., Washington, DC 20590; 202-366-6823.

Any member of the public may present a written statement to the Advisory Board at any time.

Issued at Washington, DC on August 24, 2000.
Marc C. Owen,
Chief Counsel.

[FR Doc. 00-22095 Filed 8-29-00; 8:45 am]

BILLING CODE 4910-61-P